DEPARTMENT OF TRANSPORTATION

Federal Highway Administration

Environmental Impact Statement: Adoption: St. Tammany Parish, LA

AGENCY: Federal Highway Administration (FHWA), DOT.

ACTION: Notice of Intent.

SUMMARY: FHWA is issuing this notice of intent to advise the public of its intent to adopt an existing Environmental Impact Statement (EIS) in accordance with the Council on Environment Quality regulations, 40 CFR 1506.3. The final EIS was prepared and approved by the US Army of Engineers, New Orleans District for LA 3241, I-12 to Bush Highway in St. Tammany Parish, Louisiana. The FEIS will be supplemented to include a noise analysis in accordance with 23 CFR part 772, a Section 4(f) evaluation in accordance with 23 CFR part 774, and an analysis of the effects resulting from a change in the location of the connection with LA 434.

FOR FURTHER INFORMATION CONTACT: Carl Highsmith, Project Delivery Team Leader, Louisiana Division, Federal Highway Administration, 5304 Flanders Drive, Suite A, Baton Rouge, LA 70808 Telephone: 225.757.7615. See also the project Web site at http://www.i12tobush.com.

SUPPLEMENTARY INFORMATION: The FHWA, in cooperation with the Louisiana Department of Transportation and Development (DOTD), intends to adopt an approved Final EIS for the I-12 to Bush Highway in St. Tammany Parish, Louisiana. The EIS was prepared by the US Army Corps of Engineers, New Orleans District, as part of a Section 404 permit application number MVN-2005-00037. The NOI for the EIS appeared in the FR, Volume 73, Number 224, November 19, 2008. The project calls for the construction of a new four-lane highway connecting I-12 to Bush, Louisiana, in St. Tammany Parish. The preferred alternative is approximately 19.8 miles in length and begins at LA 434, north of the existing LA 434 interchange, and traverses in a northeasterly direction until encountering an abandoned rail corridor. It then follows the rail corridor terminating at the LA 21/LA 41 intersection near Bush, Louisiana. The EIS considered the social, environmental, and economic impacts of the project. The No-Action alternative and four roadway alternatives were evaluated and discussed in the draft and final EIS. The FHWA will prepare a noise study in accordance with 23 CFR part 772 and coordinate the Section 4(f) evaluation for the project in accordance with 40 CFR 1505.2. The public will be given an opportunity to comment on the proposed action prior to issuance of a ROD by FHWA. The public notice will be published in local newspapers and on the project Web site at www.i12tobush.com.

Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Issued on: October 23, 2013.
Charles W. Bolinger,
Division Administrator, Baton Rouge, Louisiana.

[FR Doc. 2013-26051 Filed 10-31-13; 8:45 am]

BILLING CODE 4910-22-P